DEPARTMENT OF HEALTH AND HUMAN SERVICES

Meeting of the Advisory Committee on Minority Health

AGENCY: Department of Health and Human Services, Office of the Secretary, Office of Public Health and Science, Office of Minority Health.

ACTION: Notice of meeting.

SUMMARY: The Advisory Committee on Minority Health will meet to discuss racial and ethnic disparities in health, as well as other related issues. The meeting is open to the public. There will be an opportunity for public comment which will be limited to five minutes per speaker. Individuals who would like to submit written statements should mail or fax their comments to the Office of Minority Health at least two business days prior to the meeting.

DATES: The Advisory Committee on Minority Health will meet on Thursday, March 21, 2002 from 9 a.m. to 5 p.m., and Friday, March 22, 2000 from 8:30 a.m. to 12 noon.

ADDRESSES: The meeting will be held at the Hamilton Crowne Plaza, Oasis Room, 1001 14th Street, NW., Washington, DC.

FOR FURTHER INFORMATION CONTACT: Ms. Sheila P. Merriweather, Office of Minority Health, Rockwall Building, 5515 Security Lane, Suite 1000, Rockville, MD 20852. Phone: 301-443-9923, Fax: 301-443-8280.

Dated: March 4, 2002.
Nathan Stinson, Jr.,
Deputy Assistant Secretary for Minority Health.

[FR Doc. 02-5511 Filed 3-7-02; 8:45 am]

BILLING CODE 4150-29-P